DEPARTMENT OF HOMELAND SECURITY

Coast Guard

33 CFR Part 117

[Docket No. USCG-2017-0239]

Drawbridge Operation Regulation; Chincoteague Channel, Chincoteague Island, VA

AGENCY: Coast Guard, DHS.

ACTION: Notice of deviation from drawbridge regulation.

SUMMARY: The Coast Guard has issued a temporary deviation from the operating schedule that governs the SR 175 Bridge which carries SR 175 across the Chincoteague Channel, mile 3.5 (physically situated at mile 3.9), at Chincoteague Island, VA. The deviation is necessary to facilitate the biennial bridge inspection. This deviation allows the bridge to remain in the closed-to-navigation position.

DATES: The deviation is effective from 11 a.m. through 2 p.m. on Thursday, April 6, 2017.

ADDRESSES: The docket for this deviation, [USCG-2017-0239] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard; telephone 757-398-6557, email Michael.R.Thorogood@uscg.mil.

SUPPLEMENTARY INFORMATION: The Virginia Department of Transportation, owner and operator of the SR 175 Bridge that carries SR 175 across the Chincoteague Channel, mile 3.5 (physically situated at mile 3.9), at Chincoteague Island, VA, has requested a temporary deviation from the current operating schedule to facilitate the biennial bridge inspection of the bascule span for the drawbridge. The bridge has a vertical clearance of 15 feet above mean high water (MHW) in the closed position and unlimited vertical clearance in the open position.

The current operating schedule is set out in 33 CFR 117.1005. Under this temporary deviation, the bridge will be maintained in the closed-to-navigation position from 11 a.m. through 2 p.m. on Thursday, April 6, 2017. The Chincoteague Channel is used by a variety of vessels including public vessels, small commercial vessels, tug and barge traffic, and recreational vessels. The Coast Guard has carefully coordinated the restrictions with waterway users in publishing this temporary deviation.

Vessels able to pass through the bridge in the closed-to-navigation position may do so at any time. The bridge will be able to open for emergencies, if at least 30 minutes notice is given, and there is no immediate alternative route for vessels unable to pass through the bridge in the closed position. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 28, 2017.
Hal R. Pitts,
Bridge Program Manager, Fifth Coast Guard District.

[FR Doc. 2017-06448 Filed 3-31-17; 8:45 am]

BILLING CODE 9110-04-P